GENERAL SERVICES ADMINISTRATION

[Notice-MK-2017-04; Docket No. 2017-0005; Sequence 4]

The Presidential Commission on Election Integrity (PCEI); Submission of Public Comments

AGENCY: Office of Government-wide Policy (OGP), General Services Administration (GSA).

ACTION: Presidential Advisory Commission on Election Integrity request for comments.

SUMMARY: The Presidential Advisory Commission on Election Integrity (Commission) consistent with the Executive Order dated May 11, 2017, the Establishment of Presidential Advisory Commission on Election Integrity, will study the registration and voting processes used in Federal elections. The Commission invites public comments related to laws, rules, policies, activities, strategies, and practices that enhance and/or undermine the American people's confidence in the integrity of the voting processes in Federal elections, as well as vulnerabilities in voting systems and practices used for Federal elections. The Commission values public feedback.

DATES: Submit comments on or before December 21, 2017.

ADDRESSES: Public comments can be submitted by either of the following methods:

• Regulations.gov: http://www.regulations.gov. Submit comments via the Federal eRulmaking portal by searching for Notice-MK-2017-04. Select the link “Comment Now” that corresponds with “Notice-MK-2017-04, Submission of Public Comments.” Follow the instructions provided on the screen. Please include your name, organization (if any), and “Notice-MK-2017-04, Submission of Public Comments” on your attached document. Please note that any information, including personal or contact information, that you provide on the regulations.gov comment form, or in an attachment, will be publicly disclosed as it is entered, searchable on the Internet, and included in any paper docket.

• Mail: Presidential Advisory Commission on Election Integrity, Eisenhower Executive Office Building (EEOB), Rm. 268, Washington, DC 20504. Please note that any written comments received via mail will be uploaded to the docket on regulations.gov, where they will be viewable in full by the public, including any personal or contact information.

FOR FURTHER INFORMATION CONTACT: Mr. Ron Williams, Policy Advisor, Presidential Advisory Commission on Election Integrity, at 202-456-3794 or via email at ElectionIntegrityStaff@ovp.eop.gov.

SUPPLEMENTARY INFORMATION: The Commission was established in accordance with Executive Order 13799 of May 11, 2017 (https://www.federalregister.gov/documents/2017/05/16/2017-10003/establishment-of-presidential-advisory-commission-on-election-integrity). The Commission will function solely as an advisory body, and shall submit a report to the President of the United States that identifies the following:

a. Those laws, rules, policies, activities, strategies, and practices that enhance the American people's confidence in the integrity of the voting processes used in Federal elections;

b. Those laws, rules, policies, activities, strategies, and practices that undermine the American people's confidence in the integrity of the voting processes used in Federal elections; and

c. Those vulnerabilities in voting systems and practices used for Federal elections that could lead to improper voter registrations and improper voting, including fraudulent voter registrations and fraudulent voting.

Dated: September 15, 2017.
Allison Fahrenkopf Brigati,
Associate Administrator, Office of Government-Wide Policy.

[FR Doc. 2017-20182 Filed 9-21-17; 8:45 am]

BILLING CODE 6820-14-P